DEPARTMENT OF JUSTICE

Notice of Lodging of the Consent Decree Under the Resource Conservation and Recovery Act

Notice is hereby given that on July 25, 2011, a proposed Consent Decree in United States v. Chevron Puerto Rico, LLC, f/k/a Texaco Puerto Rico, Inc. (“CHEVRON”), Civil Action No. 3:11-CV-1716, was lodged with the United States Court for the District of Puerto Rico.

The proposed Consent Decree resolves CHEVRON's Resource Conservation and Recovery Act (RCRA) and the Puerto Rico Underground Storage Tank Regulations (PRUSTR) violations stemming from its failure to provide overfill protection equipment at two underground storage tank (UST) facilities; failure to perform annual tests of automatic line leak detectors (ALLDs) for piping; failure to maintain records of annual testing of ALLDs; failure to provide release detection for tanks and pressurized piping and failure to maintain records of compliance with release detection requirements for both tanks and pressurized piping. Under the terms of the Consent Decree, CHEVRON will pay a $600,000 penalty, undertake two Supplemental Environment Projects valued at approximately $3.4 million, and implement injunctive relief valued at approximately $1.8 million. As part of the injunctive relief under the Consent Decree, CHEVRON will install a fully automated release detection system for tanks and piping associated with the UST systems at 155 of CHEVRON's UST facilities no later than March 31, 2013. The automated release detection system will include automatic tank gauging for single wall tanks, interstitial monitoring for double wall tanks, and electronic line leak detectors for piping on the UST systems. CHEVRON also agrees under the Consent Decree to install dispenser pans under all dispensers no later than March 31, 2013 at 155 of CHEVRON's UST facilities.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the matter as United States v. Chevron Puerto Rico, LLC, D.J. Ref. 90-7-1-09727.

The Consent Decree may be examined at the Office of the United States Attorney, Torre Chardon Suite 1201, 350 Carlos Chardon Avenue, San Juan, Puerto Rico 00918, and at U.S. EPA Region II, 290 Broadway, New York, New York. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States v. Chevron Puerto Rico, LLC, Civil Action No. 3:11-CV-1716, please enclose a check in the amount of $13.50 (25 cents per page reproduction cost) payable to the U.S. Treasury.

Ronald G. Gluck,
Assistant Section Chief, Environmental Enforcement Section, Environment and Natural Resource Division.

[FR Doc. 2011-19180 Filed 7-28-11; 8:45 am]

BILLING CODE 4410-15-P